DEPARTMENT OF COMMERCE

International Trade Administration

[C-570-991]

Chlorinated Isocyanurates From the People's Republic of China: Continuation of Countervailing Duty Order

AGENCY: Enforcement and Compliance, International Trade Administration, Department of Commerce.

SUMMARY: As a result of the determinations by the Department of Commerce (Commerce) and the International Trade Commission (ITC) that revocation of the countervailing duty order on chlorinated isocyanurates (chlorinated isos) from the People's Republic of China (China) would likely lead to a continuation or recurrence of countervailable subsidies and material injury to an industry in the United States, Commerce is publishing a notice of continuation of the countervailing duty order.

DATES: Applicable May 7, 2020.

FOR FURTHER INFORMATION CONTACT: Nathan James, AD/CVD Operations, Office V, Enforcement and Compliance, International Trade Administration, U.S. Department of Commerce, 1401 Constitution Avenue NW, Washington, DC 20230; telephone: (202) 482-5305.

SUPPLEMENTARY INFORMATION:

Background

On November 24, 2014, Commerce published the notice of the countervailing duty order on chlorinated isos from China.¹ On October 1, 2019, Commerce published the notice of initiation of the first sunset review of the countervailing duty order on chlorinated isos from China, pursuant to section 751(c) of the Tariff Act of 1930, as amended (the Act).² Also on October 1, 2019, the ITC instituted its review of the Order.³

¹ See Chlorinated Isocyanurates from the People's Republic of China: Countervailing Duty Order, 79 FR 67424 (November 13, 2014) (Order).

² See Initiation of Five-Year (Sunset) Reviews, 84 FR 31304 (October 1, 2019).

³ See Chlorinated Isocyanurates From China; Institution of Five-Year Review, 84 FR 52132 (October 1, 2019).

On October 16, 2019, Commerce received a timely notice of intent to participate in this review from Bio-Lab, Inc. (Bio-Lab), Clearon Corp. (Clearon), and Occidental Chemical Corporation (OxyChem), as domestic producers of chlorinated isos within the deadline specified in 19 CFR 351.218(d)(1)(i).⁴ On October 31, 2019, Commerce received a complete substantive response for the review from the domestic producers within the 30-day deadline specified in 19 CFR 351.218(d)(3)(i).⁵ Commerce received no substantive responses from respondent interested parties, including the Government of China. Pursuant to section 751(c)(3)(B) of the Act and 19 CFR 351.218(e)(1)(ii)(C)(2), Commerce conducted an expedited (120-day) sunset review of this Order.⁶

⁴ See Domestic Producers' Letter, “Chlorinated Isocyanurates from the People's Republic of China: Notice of Intent to Participate,” dated October 16, 2019.

⁵ See Domestic Producers' Letter, “Chlorinated Isocyanurates from the People's Republic of China: Substantive Response to Notice of Initiation of Five-Year (Sunset) Review of the Countervailing Duty Order,” dated October 31, 2019.

⁶ See Chlorinated Isocyanurates from the People's Republic of China: Final Results of the Expedited First Sunset Review of the Countervailing Duty Order, 85 FR 6142 (February 4, 2020).

As a result of its review, Commerce determined that revocation of the countervailing duty order would likely lead to a continuation or recurrence of material injury to an industry in the United States within a reasonably foreseeable time. On April 24, 2020, the ITC published its determination that revocation of the Order would likely lead to a continuation or recurrence of material injury to an industry in the United States within a reasonably foreseeable time, pursuant to section 751(c) of the Act.⁷

⁷ See Chlorinated Isocyanurates from China, 85 FR 23060 (April 24, 2020).

Scope of the Order

The products covered by the Order are chlorinated isocyanurates. Chlorinated isocyanurates are derivatives of cyanuric acid, described as chlorinated s-triazine triones. There are three primary chemical compositions of chlorinated isocyanurates: (1) Trichloroisocyanuric acid (TCCA) (Cl3(NCO)3), (2) sodium dichloroisocyanurate (dihydrate) (NaCl2(NCO)3 X 2H2O), and (3) sodium dichloroisocyanurate (anhydrous) (NaCl2(NCO)3). Chlorinated isocyanurates are available in powder, granular and solid (e.g., tablet or stick) forms.

Chlorinated isocyanurates are currently classifiable under subheadings 2933.69.6015, 2933.69.6021, 2933.69.6050, 3808.50.4000, 3808.94.5000, and 3808.99.9500 of the Harmonized Tariff Schedule of the United States (HTSUS). The tariff classification 2933.69.6015 covers sodium dichloroisocyanurates (anhydrous and dihydrate forms) and trichloroisocyanuric acid. The tariff classifications 2933.69.6021 and 2933.69.6050 represent basket categories that include chlorinated isocyanurates and other compounds including an unfused triazine ring. The tariff classifications 3808.50.4000, 3808.94.5000 and 3808.99.9500 cover disinfectants that include chlorinated isocyanurates. The HTSUS subheadings are provided for convenience and customs purposes. The written description of the scope of this Order is dispositive.

Continuation of the Order

As a result of the determinations by Commerce and the ITC that revocation of the Order would likely lead to continuation or recurrence of countervailable subsidies and material injury to an industry in the United States, pursuant to section 751(d)(2) of the Act, Commerce hereby orders the continuation of the Order.

U.S. Customs and Border Protection will continue to collect countervailing duty cash deposits at the rates in effect at the time of entry for all imports of subject merchandise. The effective date of the continuation of the Order will be the date of publication in the Federal Register of this notice of continuation. Pursuant to section 751(c)(2) of the Act, Commerce intends to initiate the next sunset review of the order not later than 30 days prior to the fifth anniversary of the effective date of continuation.

Notification to Interested Parties

This five-year sunset review and this notice are in accordance with section 751(c) of the Act and published pursuant to section 777(i)(1) of the Act and 19 CFR 351.218(f)(4).

Dated: April 30, 2020.
Jeffrey I. Kessler,
Assistant Secretary for Enforcement and Compliance.

[FR Doc. 2020-09762 Filed 5-6-20; 8:45 am]

BILLING CODE 3510-DS-P